CONSUMER PRODUCT SAFETY COMMISSION

[Docket No. CPSC-2022-0020]

Agency Information Collection Activities; Proposed Collection; Comment Request; Beta Pilot Test for eFiling Certificates of Compliance

AGENCY: Consumer Product Safety Commission.

ACTION: Notice.

SUMMARY: In the Federal Register of June 10, 2022, the U.S. Consumer Product Safety Commission (Commission or CPSC), together with U.S. Customs and Border Protection (CBP), published a notice announcing a joint intent to conduct a second test (a Beta Pilot) to assess the electronic filing of data from a certificate of compliance (certificate) for regulated consumer products under CPSC's jurisdiction (June 10 Notice). The June 10 Notice requested volunteers for the Beta Pilot Test, and also stated the intent to seek approval of a collection of information for the Beta Pilot Test, requesting comment on the proposed collection. The Commission did not receive any comments on the burden estimate for the proposed collection of information. In accordance with the requirements of the Paperwork Reduction Act (PRA) of 1995, CPSC submitted information collection requirements for the Beta Pilot Test to the Office of Management and Budget (OMB) for approval of the new collection of information, without change.

DATES: Submit comments on the proposed collection of information by October 14, 2022.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB, also should be submitted electronically at: http://www.regulations.gov, under Docket No. CPSC-2022-0020.

FOR FURTHER INFORMATION CONTACT: Bretford Griffin, Consumer Product Safety Commission, 4330 East West Highway, Bethesda, MD 20814; (301) 504-7037, or by email to: bgriffin@cpsc.gov.

SUPPLEMENTARY INFORMATION: The June 10 Notice sought comment on CPSC's burden estimate for the Beta Pilot Test. 87 FR 35513, 35518-20. CPSC received no comment on the burden estimates provided. CPSC now seeks approval of a new collection of information for the Beta Pilot test, which contains information collection requirements that are subject to public comment and review by OMB under the Paperwork Reduction Act of 1995 (44 U.S.C. 3501-3521).¹ In this document, pursuant to 44 U.S.C. 3507(a)(1)(D), we set forth:

¹ The Commission voted 5-0 to issue this notice.

a title for the collection of information;

a summary of the collection of information;

a brief description of the need for the information and the proposed use of the information;

a description of the likely respondents and proposed frequency of response to the collection of information;

an estimate of the burden that shall result from the collection of information; and

notice that comments may be submitted to the OMB.

Title: Beta Pilot Test for eFiling Certificates of Compliance.

Description: During the Beta Pilot test of CBP's Partner Government Agency (PGA) Message Set abilities through the Automated Commercial Environment (ACE), up to 50 participating importers of regulated consumer products will electronically file the requested certificate data, comprised of seven data elements, at the time of entry filing, or entry summary filing, if both entry and entry summary are filed together. Participants will have two ways to file certificate data during the Beta Pilot test: (1) filing certificate data in a CPSC-maintained Product Registry, and filing a reference number in ACE to this data set, through the Automated Broker Interface (ABI), each time the product is imported thereafter (Reference PGA Message Set), or (2) filing all certificate data elements directly through ABI each time the product is imported (Full PGA Message Set). CPSC will receive the information from CBP through a real-time transfer of import data, and risk score the information in CPSC's Risk Assessment Methodology (RAM) system, to assist in the interdiction of noncompliant consumer products.

As set forth in section VI.B of the June 10 Notice, the requirement to create and maintain certificates, including the data elements, is set forth in section 14 of the Consumer Product Safety Act (CPSA). Section 14(a) of the CPSA requires manufacturers (including importers) and private labelers of certain regulated consumer products manufactured outside the United States to test and issue a certificate certifying such products as compliant with applicable laws and regulations before importation. 15 U.S.C. 2063(a). Section 14(g)(1) of the CPSA describes the data required on a certificate. Section 14(g)(3) requires a certificate to accompany the applicable product or shipment of products covered by the certificate, and that certifiers furnish the certificate to each distributor or retailer of the product. Upon request, certificates must also be furnished to CPSC and CBP. Section 14(g)(4) provides that “[i]n consultation with the Commissioner of Customs, the Commission may, by rule, provide for the electronic filing of certificates under this section up to 24 hours before arrival of an imported product.” The Beta Pilot test described in this collection of information is in preparation for a rulemaking to implement section 14(g)(4) of the CPSA. 15 U.S.C. 2063(g)(4).

Because certificates are required by statute, this analysis focuses on the burden for CPSC to accept, and importers to provide, certificate data elements electronically at the time of entry filing, and not to collect and maintain certificate data more generally. Importer requirements in the Beta Pilot test for providing certificate data electronically at the time of entry filing fall within the definition of “collection of information,” as defined in 44 U.S.C. 3502(3).

Description of Respondents: Up to 50 importer participants who import regulated consumer products within CPSC's jurisdiction under the approximately 300 HTS codes included in the Beta Pilot test.

Estimated Burden: We estimate the burden of this collection of information as follows:

CPSC used information provided by the previous Alpha Pilot test participants to inform the estimated burden for the Beta Pilot test. The burden from participating in the eFiling Beta Pilot test can be broken down into the burden of preparing for participation in the Pilot, the burden of maintaining the data elements separately, and, as compared to the Alpha Pilot test, the additional burden of including the dates of manufacturing and lab testing. Based on feedback from the Alpha Pilot test participants, we also assume that if we have 50 Beta Pilot test participants, approximately 90 percent of them, or 45 respondents, will opt to use the Product Registry and Reference PGA Message Set exclusively, while 5 participants will opt to use the Full PGA Message Set exclusively.

For the 45 participants opting to use the Product Registry and Reference PGA Message Set, we estimate that there will be approximately 8,764 burden hours to complete the information collection burden associated with Beta Pilot test participation, and maintain the data elements, including the dates of manufacturing and lab testing. Based on feedback from Alpha Pilot test participants, participant staff costs for this burden will be about $383,000 or approximately $44 per hour ($382,990/8,764).

Table 1—Beta Pilot Test Burden Estimates
Product Registry and Reference PGA Message Set
Type of respondent | Number of respondents | Number of responses per respondent | Number of responses | Average burden per response (in hours) | Total annual burden (in hours) | Average cost per response | Total annual respondent cost
Product registry only | A | B | C (=A×B) | D | E (=C×D) | F | G (=C×F)
Pilot Participation | 45 | 1 | 45 | 91 | 4,095 | $4,929 | $221,805
Gathering and Submitting Data Elements | 45 | 1 | 45 | 27 | 1,195 | 946 | 42,579
Survey | 45 | 1 | 45 | 2.2 | 99 | 34.68 | 1,561
Filing Entry-Line | 45 | 25,000 | 1,125,000 | 0.003 | 3,375 | 0.10 | 117,045
Total |  |  | 1,125,135 |  | 8,764 |  | 382,990
Assumption:
Appx. 10% of the 50 respondents will elect to use only the Full PGA message set.
Estimated response costs based on costs information from Alpha Pilot test participants.
Wage data for survey and filing entry-line data comes from U.S. Bureau of Labor Statistics, “Employer Costs for Employee Compensation,” September 2021, Table 4, total compensation for all sales and office workers in goods-producing private industries: http://www.bls.gov/ncs/).

For the 5 participants opting to use the Full PGA Message Set, we estimate 452 hours to complete the pilot and maintain the data elements, including for each product the dates of manufacture and lab testing. The estimated associated participant staff costs will be about $21,800, or approximately $48 per hour ($21,774/452 hours).

Table 2—Beta Pilot Test Burden Estimates
Full PGA Message Set
Type of respondent | Number of respondents | Number of responses per respondent | Number of responses | Average burden per response (in hours) | Total annual burden (in hours) | Average cost per response | Total annual respondent cost
Full PGA Message set Only | A | B | C (=A×B) | D | E (=C×D) | F | G (=C×F)
Pilot Participation | 5 | 1 | 5 | 30 | 150 | $2,245 | $11,225
Gathering and Submitting Data Elements | 5 | 1 | 5 | 13 | 66 | 515 | 2,573
Survey | 5 | 1 | 5 | 2.2 | 11 | 34.68 | 173
Filing Entry-Line | 5 | 1,500 | 7,500 | 0.030 | 225 | 1.04 | 7,803
Total |  |  | 7,515 |  | 452 |  | 21,774
Assumptions:
Appx. 10% of the 50 respondents will elect to use the Full PGA message set.
Estimated response cost for based on cost information from the Alpha Pilot test participants.
Wage data for survey and filing entry-line data comes from U.S. Bureau of Labor Statistics, “Employer Costs for Employee Compensation,” September 2021, Table 4, total compensation for all sales and office workers in goods-producing private industries: http://www.bls.gov/ncs/).

The estimated total burden for participation in the Beta Pilot test is 9,217 hours, with an estimated cost of $404,800, or $44 per hour ($404,764/9,217).

Table 3—Total Estimated Burden or Beta Pilot Test
Type of respondent | Number of respondents | Number of responses per respondent | Number of responses | Average burden per , response (in hours) | Total annual burden (in hours) | Average cost per response | Total annual respondent cost
Product registry only | (A) | (B) | (C) (=A×B) | (D) | (E) (=C×D) | (F) | (G) (=C×F)
Pilot Participation | 50 | 1 | 50 | 85 | 4,245 | $4,661 | $233,030
Gathering and Submitting Data Elements | 50 | 1 | 50 | 25 | 1,262 | 903 | 45,152
Survey | 50 | 1 | 50 | 2 | 110 | 35 | 1,734
Filing Entry-Line | 50 | 22,650 | 1,132,500 | 0.003 | 3,600 | 0.11 | 124,848
Total |  |  | 1,132,650 |  | 9,217 |  | 404,764

In compliance with the Paperwork Reduction Act of 1995 (44 U.S.C. 3507(d)), we have submitted the information collection requirements to the OMB for review.

Alberta E. Mills,
Secretary, Consumer Product Safety Commission.

[FR Doc. 2022-19881 Filed 9-13-22; 8:45 am]

BILLING CODE 6355-01-P